DEPARTMENT OF ENERGY

Federal Energy Regulatory Commission

[Project No. 5124-022]

Washington Electric Cooperative, Inc.; Notice of Waiver Period for Water Quality Certification Application

On March 29, 2021, the Vermont Department of Environmental Conservation (Vermont DEC) notified the Federal Energy Regulatory Commission (Commission) that Washington Electric Cooperative, Inc. submitted an application for a Clean Water Act section 401(a)(1) water quality certification to Vermont DEC on March 29, 2021, in conjunction with the above captioned project. Pursuant to 40 CFR 121.6, we hereby notify the Vermont DEC of the following:

Date of Receipt of the Certification Request: March 29, 2021.

Reasonable Period of Time to Act on the Certification Request: One year.

Date Waiver Occurs for Failure to Act: March 29, 2022.

If Vermont DEC fails or refuses to act on the water quality certification request by the above waiver date, then the agency's certifying authority is deemed waived pursuant to section 401(a)(1) of the Clean Water Act, 33 U.S.C. 1341(a)(1).

Dated: April 1, 2021.
Kimberly D. Bose,
Secretary.

[FR Doc. 2021-07158 Filed 4-6-21; 8:45 am]

BILLING CODE 6717-01-P